DEPARTMENT OF HOMELAND SECURITY

Federal Emergency Management Agency

44 CFR Part 65

[Docket ID FEMA-2011-0002; Internal Agency Docket No. FEMA-B-1186]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Tuscaloosa | City of Tuscaloosa (10-04-7227P) | January 10, 2011; January 17, 2011; The Tuscaloosa News | The Honorable Walter Maddox, Mayor, City of Tuscaloosa, P.O. Box 2089, Tuscaloosa, AL 35401 | December 31, 2010 | 010203
Arizona:
Maricopa | City of Surprise (10-09-3551P) | January 27, 2011; February 3, 2011; The Arizona Business Gazette | The Honorable Lyn Truitt, Mayor, City of Surprise, 16000 North Civic Center Plaza, Surprise, AZ 85734 | June 3, 2011 | 040053
Maricopa | Unincorporated areas of Maricopa County (10-09-3551P) | January 27, 2011; February 3, 2011; The Arizona Business Gazette | Mr. Andrew Kunasek, Chairman, Maricopa County Board of Supervisors, 301 West Jefferson, 10th Floor, Phoenix, AZ 85003 | June 3, 2011 | 040037
California: Riverside | City of Hemet (10-09-2521P) | December 24, 2010; December 31, 2010; The Press-Enterprise | The Honorable Jerry Franchville, Mayor, City of Hemet, 445 East Florida Avenue, Hemet, CA 92543 | December 17, 2010 | 060253
Colorado:
Adams | City of Commerce City (10-08-0226P) | February 1, 2011; February 8, 2011; The Commerce City Sentinel Express | The Honorable Paul Natale, Mayor, City of Commerce City, 7887 East 60th Avenue, Commerce City, CO 80022 | June 8, 2011 | 080006
Douglas | Town of Parker (10-08-0769P) | December 23, 2010; December 30, 2010; The Douglas County News-Press | The Honorable David Casiano, Mayor, Town of Parker, 20120 East Main Street, Parker, CO 80138 | April 29, 2011 | 080310
Douglas | Unincorporated areas of Douglas County (10-08-0769P) | December 23, 2010; December 30, 2010; The Douglas County News-Press | Mr. Steven A. Boand, Chairman, Douglas County Board of Commissioners, 100 3rd Street, Castle Rock, CO 80104 | April 29, 2011 | 080049
Nevada:
Washoe | City of Reno (10-09-3236P) | January 4, 2011; January 11, 2011; The Reno Gazette-Journal | The Honorable Bob Cashell, Mayor, City of Reno, P.O. Box 1900, Reno, NV 89505 | December 28, 2010 | 320020
Washoe | City of Sparks (10-09-3236P) | January 4, 2011; January 11, 2011; The Reno Gazette-Journal | The Honorable Geno Martini, Mayor, City of Sparks, 431 Prater Way, Sparks, NV 89431 | December 28, 2010 | 320021
North Carolina:
Alamance | Unincorporated areas of Alamance County (10-04-2172P) | December 16, 2010; December 23, 2010; The Times-News | Mr. Craig F. Honeycutt, Alamance County Manager, 124 West Elm Street, Graham, NC 27253 | April 22, 2011 | 370001
Wake | City of Raleigh (10-04-1146P) | January 6, 2011; January 13, 2011; The News & Observer | The Honorable Charles Meeker, Mayor, City of Raleigh, P.O. Box 590, Raleigh, NC 27602 | May 13, 2011 | 370243
Ohio:
Lake | City of Painesville (10-05-6522P) | January 3, 2011; January 10, 2011; The News-Herald | Mr. Joseph Hada, Jr., President, Painesville City Council, 7 Richmond Street, P.O. Box 601, Painesville, OH 44077 | January 24, 2011 | 390319
Lake | Unincorporated areas of Lake County (10-05-6522P) | January 3, 2011; January 10, 2011; The News-Herald | Mr. Raymond E. Sines, President, Lake County Board of Commissioners, 105 Main Street, P.O. Box 490, Painesville, OH 44077 | January 24, 2011 | 390771
Tennessee: Sumner | City of Gallatin (10-04-4673P) | January 19, 2011; January 26, 2011; The Gallatin Newspaper | The Honorable Jo Ann Graves, Mayor, City of Gallatin, 132 West Main Street, Gallatin, TN 37066 | May 26, 2011 | 470185

(Catalog of Federal Domestic Assistance No. 97.022, “Flood Insurance.”)

Dated: March 30, 2011.
Sandra K. Knight,
Deputy Federal Insurance and Mitigation Administrator, Mitigation, Department of Homeland Security, Federal Emergency Management Agency.

[FR Doc. 2011-9342 Filed 4-15-11; 8:45 am]

BILLING CODE 9110-12-P